SURFACE TRANSPORTATION BOARD

[Docket No. FD 36581]

Akron Barberton Cluster Railway Company—Acquisition Exemption—Rittman Community Improvement Corporation

Akron Barberton Cluster Railway Company (ABC), a Class III rail carrier, has filed a verified notice of exemption under 49 CFR 1150.41 to acquire from Rittman Community Improvement Corporation (RCIC) approximately 3.26 miles of rail line between milepost 216.76 near Wadsworth, and milepost 220.02 near Rittman, in Medina and Wayne Counties, Ohio (the Line).

The verified notice states that ABC has been serving as the operator on the Line since August 1994 when it acquired the rail assets of its predecessor, Akron & Barberton Belt Railroad Company, and several Consolidated Rail Corporation lines. See Akron Barberton Cluster Ry.—Acquis. & Operation Exemption—Certain Lines of Consol. Rail Corp., FD 32537 (ICC served Aug. 10, 1994). ABC states that the Line was inadvertently omitted from the verified notice of exemption filed in that docket and that the authority it seeks here would rectify that oversight. The verified notice also states that RCIC and ABC have executed a purchase and sale agreement providing for ABC's acquisition of all of RCIC's right, title, and interest in and to the Line subject to ABC's receipt of appropriate authority or exemption from the Board, and that ABC will continue to operate and provide all rail common carrier service to shippers on the Line after the exemption becomes effective.

ABC certifies that its projected annual revenues as a result of this transaction will not exceed those that would qualify it as a Class III rail carrier and will not exceed $5 million annually. ABC further certifies that the acquisition does not involve an interchange commitment.

The transaction may be consummated on or after November 2, 2022, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than October 26, 2022 (at least seven days before the exemption becomes effective).

All pleadings, referring to Docket No. FD 36581, must be filed with the Surface Transportation Board either via e-filing or in writing addressed to 395 E Street SW Washington, DC 20423-0001. In addition, a copy of each pleading must be served on ABC's representative: Michael J. Barron Jr., Fletcher & Sippel LLC, 29 North Wacker Drive, Suite 800, Chicago, IL 60606-3208.

According to ABC, this action is categorically excluded from environmental review under 49 CFR 1105.6(c) and from historic preservation reporting requirements under 49 CFR 1105.8(b).

Board decisions and notices are available at www.stb.gov.

Decided: October 14, 2022.
By the Board, Mai T. Dinh, Director, Office of Proceedings.
Jeffrey Herzig,
Clearance Clerk.

[FR Doc. 2022-22683 Filed 10-18-22; 8:45 am]

BILLING CODE 4915-01-P